DEPARTMENT OF ENERGY

Federal Energy Regulatory Commission

[Project No. 14800-000]

Lock 9 Hydro Partners; Notice of Preliminary Permit Application Accepted for Filing and Soliciting Comments and Motions To Intervene

On September 1, 2016, Lock 9 Hydro Partners filed an application for a preliminary permit, pursuant to section 4(f) of the Federal Power Act (FPA), proposing to study the feasibility of the Valley View Hydroelectric Station Project (project) to be located at the Kentucky River Authority's Lock and Dam 9 on the Kentucky River in Jessamine and Madison Counties, Kentucky. The sole purpose of a preliminary permit, if issued, is to grant the permit holder priority to file a license application during the permit term. A preliminary permit does not authorize the permit holder to perform any land-disturbing activities or otherwise enter upon lands or waters owned by others without the owners' express permission.

The proposed project would consist of the following: (1) The existing 242-foot-long, 35-foot-high concrete lock and dam; (2) the existing 343-acre reservoir having a storage capacity of 6,550-acre-feet; (3) twelve proposed 50-foot-long, 63-inch-diameter siphoning penstocks encased in concrete; (4) six submersible generating units, each fed by two penstocks, located within the auxiliary section of the dam with a total combined capacity of 3.36 megawatts; (5) a proposed 30-foot-long, 48-foot-wide on-shore building to house project controls; and (6) a proposed 2,000-foot-long, 12.47 kilovolt transmission line. The estimated annual generation of the project would be 12.9 gigawatt-hours.

Applicant Contact: Mr. David Brown Kinloch, Lock 9 Hydro Partners, 414 S. Wenzel Street, Louisville, KY 40204; phone: (502) 589-0975.

FERC Contact: Navreet Deo; phone: (202) 502-6304.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14800-000.

More information about this project, including a copy of the application, can be viewed or printed on the “eLibrary” link of Commission's Web site at http://www.ferc.gov/docs-filing/elibrary.asp. Enter the docket number (P-14800-000) in the docket number field to access the document. For assistance, contact FERC Online Support.

Dated: March 1, 2017.
Kimberly D. Bose,
Secretary.

[FR Doc. 2017-04378 Filed 3-6-17; 8:45 am]

BILLING CODE 6717-01-P